DEPARTMENT OF COMMERCE

National Oceanic and Atmospheric Administration

[I.D. 080603E]

North Pacific Fishery Management Council; Public Meeting

AGENCY: National Marine Fisheries Service (NMFS), National Oceanic and Atmospheric Administration (NOAA), Commerce.

ACTION: Notice of public meetings.

SUMMARY: The North Pacific Fishery Management Council's (Council) Crab Plan Team will meet on September 22-24, 2003 Kodiak, AK.

DATES: The meetings will be held on September 22, 2003, 1 - 5 p.m.; September 23, 8 a.m. - 5 p.m.; and September 24, 8 a.m. - 3 p.m.

ADDRESSES: The meetings will be held at the Alaska Fisheries Research Center, Near Island, Kodiak, AK 99615.

Council address: North Pacific Fishery Management Council, 605 W. 4th Ave., Suite 306, Anchorage, AK 99501-2252.

FOR FURTHER INFORMATION CONTACT: Diana Stram, Council staff, telephone: 907-271-2809.

SUPPLEMENTARY INFORMATION:

Agenda

Assemble the Stock Assessment and Fishery Evaluation; Review the Crab Plan Team 'Terms of Reference'; Guideline Harvest Levels; Pribilof blue king crab rebuilding plan and overfishing definitions; Develop recommendations for Council and Alaska Board of Fisheries.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at 907-271-2809 at least 7 working days prior to the meeting date.

Dated: August 6, 2003.
Richard W. Surdi,
Acting Director, Office of Sustainable Fisheries, National Marine Fisheries Service.

[FR Doc. 03-20512 Filed 8-11-03; 8:45 am]

BILLING CODE 3510-22-S